DEPARTMENT OF THE INTERIOR

Fish and Wildlife Service

Incidental Take Permits for the Alabama Beach Mouse

AGENCY: Fish and Wildlife Service, Interior.

ACTION: Notice of intent; announcement of scoping meeting.

SUMMARY: The Fish and Wildlife Service announces its intent to prepare an environmental impact statement regarding the proposed Gulf Highlands Area Habitat Conservation Plan (HCP) and issuance of two permits for the incidental take of the Alabama beach mouse. These permits are for the construction, occupancy, use, operation, and maintenance of two residential/recreational condominium projects-the Gulf Highlands Condominiums by Gulf Highlands LLC and Beach Club West by Fort Morgan Paradise Joint Venture on the Fort Morgan Peninsula, in Baldwin County, Alabama. We will also hold a public scoping meeting/hearing on October 29, 2002, at Gulf State Park in Gulf Shores, Alabama.

DATES: Written comments concerning our intent to prepare an EIS and concerning the HCP should be received on or before November 22, 2002. The scoping meeting will be held on October 29, 2002, from 4 p.m. to 8 p.m.

ADDRESSES: Persons wishing to review the application and HCP may obtain a copy by writing the Service's Southeast Regional Office at Regional Office, 1875 Century Boulevard, Suite 200, Atlanta, GA 30345 (Attn: Endangered Species Permits,) or Field Office, U.S. Fish and Wildlife Service, 1208-B Main Street, Daphne, AL 36526 (Attn: Ms. Barbara Allen). Documents will be available for public inspection by appointment during normal business hours at the regional office. Written data or comments concerning the HCP and our notice of intent to prepare an EIS should be submitted to the Regional Office. Please reference permit numbers TE-007985-0 (Gulf Highlands) and TE-031307-0 (Fort Morgan Peninsula Joint Venture) in such comments, or in requests for documents.

The scoping meeting will be held at Gulf State Park, 20115 State Highway 135, Gulf Shores, Alabama. A court reporter will be present to record all comments, and all interested parties will be allowed to comment.

FOR FURTHER INFORMATION CONTACT: Mr. Aaron Valenta, Regional Permit Coordinator, (see ADDRESSES above), telephone: 404/679-4144; or Ms. Barbara Allen, Fish and Wildlife Biologist, Daphne Field Office, (see ADDRESSES above), telephone: 334/441-5181, extension 33.

SUPPLEMENTARY INFORMATION: The proposed residential/recreational condominium developments will be located on approximately 196 acres in south Baldwin County, Alabama, between State Highway 180 and the Gulf of Mexico (Section 28, Township 9 South, Range 2 East) about twelve miles west of Highway 59 in Gulf Shores, Alabama, on the Fort Morgan Peninsula.

Some of the Applicants' future activities have the potential to impact species subject to protection under the Act, including the Alabama beach mouse (Peromyscus polionotus ammobates). Section 10(a)(1)(B) permits non-Federal landowners to take endangered and threatened species, provided the take is incidental to otherwise lawful activities and will not appreciably reduce the likelihood for the survival and recovery of the species in the wild, among other permit issuance criteria. An applicant for a permit under section 10 of the Act must prepare and submit to the Service for approval a plan containing, among other things, a strategy for minimizing and mitigating all take associated with the proposed activities to the maximum extent practicable. The applicant must also ensure that adequate funding for implementation of the plan will be provided.

The Applicants have initiated and continued discussions with the Service regarding the possibility of Permits and an associated HCP for their activities on lands to be covered by the Permits. General activities proposed for permit coverage include residential, commercial and industrial development, construction, and maintenance activities.

The Service previously considered the Applicants' HCP in an Environmental Assessment and issued a Finding of No Significant Impact. 67 FR 17089 (Apr. 9, 2002). That environmental analysis was challenged in an action for judicial review brought by Sierra Club and Friends of the Earth. The United States District Court for the Southern District of Alabama granted a preliminary injunction against any take of the Alabama beach mouse pursuant to the permits previously issued to Applicants. Sierra Club and Friends of the Earth v. Norton, 207 F. Supp. 2d. 1310 (S.D. Ala. 2002).

Subsequently, in light of the court's preliminary injunction, the Service determined to revisit the earlier NEPA analysis for this HCP and the issued permits. See Defendant's Motion for Voluntary Remand, Sierra Club and Friends of the Earth v. Norton, No. CV-02-0258-CB-C (S.D. Ala. Aug. 8, 2002). The Service has decided, and announces through this notice, its intent to review the proposed HCP and the environmental effects of issuing the permits through preparation of an EIS.

The environmental review will analyze the Applicants' proposed HCP as well as a full range of reasonable alternatives and the associated impacts of each. The Service is currently in the process of developing alternatives for analysis. The alternatives identified to date are as follows:

Alternative 1—No Action: The Service would not re-affirm the ITPs.

Alternative 2—Development According to Original Gulf Highlands Subdivision Plat: A portion of the Applicants' properties were originally platted and zoned for single family residential development by the Baldwin County Planning Commission. This development alternative involves development according to the original plat or by additional platting and subdivision of the lands.

Alternative 3—Development With Primary Features Occupying Full Width of the Escarpment: Alternative 3 consists of the residential high-rise building complexes placed atop the escarpment.

Alternative 4—Development Entirely North of the Escarpment: This alternative would involve development of residential condominium buildings and infrastructure approximately 300 feet north of the escarpment for both projects.

Alternative 5—Development of Portions of the Escarpment with a 325 ft. Habitat Corridor Between the Projects: Alternative 5 consists of the development of the same number of units, but placed on different portions of the escarpment and adjacent areas. This development configuration would result in the preservation of an undeveloped corridor of ABM habitat approximately 325 feet wide separating the individual developments and connecting the interior scrub areas with the designated critical habitat to the south of the developments.

Alternative 6-Development of Onsite Mitigation including a 909-foot Corridor Connecting Adjacent Primary/Secondary Dunes and Escarpment to the Interior: This alternative increases the width of the undeveloped corridor described above and repositions the corridor to the west side of the property. This alternative provides for dedication of 105.5 acres of Applicant-owned lands into conservation status via covenants, conditions and restrictions attached to the property, and conditions of any ITP that might be issued.

Persons wishing to provide relevant information and comments regarding this activity should submit these to the above address. For information, please contact the individual identified above in the section entitled FOR FURTHER INFORMATION CONTACT.

The environmental review of this project will be conducted in accordance with the requirements of the National Environmental Policy Act of 1969 as amended (42 U.S.C. 4321 et seq.) and its implementing regulations (40 CFR parts 1500 through 1508), and with other appropriate Federal laws and regulations, policies, and procedures of the Service for compliance with those regulations. It is estimated that the draft EIS will be available for public review in early 2003.

Dated: October 2, 2002.
Sam D. Hamilton,
Regional Director.

[FR Doc. 02-25505 Filed 10-7-02; 8:45 am]

BILLING CODE 4310-55-P